DEPARTMENT OF AGRICULTURE

Submission for OMB Review; Comment Request

July 16, 2019.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725—17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by August 19, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Census of Horticultural Specialties.

OMB Control Number: 0535-0236.

Summary of Collection: The census of horticultural specialties is one of a series of census special studies for the census of agriculture which provides more detailed statistics relating to a specific subject. The census of horticultural specialties is an integral part of the 2017 Census of Agriculture and is conducted under the authority of the Census of Agriculture Act of 1997 (Pub. L. 105-113). The law requires that the Secretary of Agriculture conduct a census of agriculture in 1998 and every fifth year following 1998. The Census of Horticultural Specialties has been conducted periodically since 1898 to show how the industry has changed over time. Since 1950 it has been conducted approximately every 10 years. Growing data needs to make policy decisions concerning the horticulture industry have prompted a request from the Secretary of Agriculture and Congress to conduct this survey every 5 years beginning with the 2014 survey as a follow-on to the Census of Agriculture. It is the only source of detailed and consistent data on horticultural crop production and sales by type of plant at both State and national levels. The horticultural specialties census includes operations growing and selling $10,000 or more of horticultural specialty crops. The sampling of small operations with sales between $1,000 and $10,000 is used as an indicator of how many small operations have increased their sales since the 2017 Census of Agriculture was conducted.

Need and Use of the Information: The primary objective of the horticultural specialties census is to obtain a comprehensive and detailed picture of the horticultural sector of the economy. It is the only source of detailed production and sales data at the national level. The continuation of this census will allow for bench marking of changes to the industry. The census of horticultural specialties will include statistics on number and value of plants grown and sold, the value of land, buildings, machinery and equipment, selected production expenses, marketing channels, hired labor, area used for production, and type of structure. Without the census of horticultural specialties, government policy makers and planners would lack valuable information needed to accomplish their missions. Instead, they would have to rely on assumptions and guess work to determine policy.

This is a reinstatement with change, of the Census of Horticultural Specialties survey to be conducted as a follow-on survey to the 2012 Census of Agriculture.

Description of Respondents: Farms; Business or other for-profit.

Number of Respondents: 41,000.

Frequency of Responses: Reporting: One time.

Total Burden Hours: 52,456.

Kimble Brown,
Departmental Information Collection Clearance Officer.

[FR Doc. 2019-15392 Filed 7-18-19; 8:45 am]

BILLING CODE 3410-20-P